FEDERAL COMMUNICATIONS COMMISSION

47 CFR Part 73

[DA 02-3213; MM Docket No. 01-215, RM-10228; MM Docket No. 01-252, RM-10275; MM Docket No. 01-212, RM 10222; MM Docket No. 01-210. RM-10225; MM Docket No. 01-214, RM-10227; MM Docket No. 01-304, RM-10309; and MM Docket No. 01-305, RM-10310.]

Radio Broadcasting Services; Sparkman, AR; Moberly, MO; Kiowa, OK; Crowell, Menard, and San Isidro, TX

AGENCY: Federal Communications Commission.

ACTION: Final rule.

SUMMARY: This document grants six proposals that allot new FM channels to Sparkman, Arkansas; Moberly, Missouri; Kiowa, Oklahoma; Menard and San Isidro, Texas It also dismisses, at the petitioner's request, a petition for rule making requesting the allotment of Channel 293C3 at Crowell, Texas. Filing windows for Channel 259A at Sparkman, Arkansas; Channel 223A at Moberly, Missouri; Channel 254A at Kiowa, Oklahoma; Channels 242A and 287C3 at Menard, Texas; and Channel 247A at San Isidro, Texas, will not be opened at this time. Instead, the issue of opening these allotments for auction will be addressed by the Commission in a subsequent order. SeeSupplementary Information.

DATES: Effective January 24, 2003.

FOR FURTHER INFORMATION CONTACT: R. Barthen Gorman, Media Bureau, (202) 418-2180.

SUPPLEMENTARY INFORMATION: This is a synopsis of the Commission's Report and Order in MM Docket No. 01-215, MM Docket No. 01-252, MM Docket No. 01-212, MM Docket No. 01-210, MM Docket No. 01-214, MM Docket No. 01-304, and MM Docket No. 01-305 adopted December 4, 2002, and released December 9, 2002. The full text of this Commission decision is available for inspection and copying during normal business hours in the FCC Reference Information Center at Portals II, 445 12th Street, SW, Room CY-A257, Washington, DC, 20554. The document may also be purchased from the Commission's duplicating contractor, Qualex International, Portals II, 445 12th Street, SW., Room CY-B402, Washington, DC, 20554, telephone 202 863-2893, facsimile 202 863-2898, or via e-mail qualexint@aol.com.

The Commission, at the request of Big Country Radio, Inc. and Jeraldine Anderson, allots Channel 259A at Sparkman, Arkansas, as the community's first local aural transmission service. See 66 FR 47433 (September 12, 2001). Channel 259A can be allotted at Sparkman in compliance with the Commission's minimum distance separation requirements with no site restrictions. The coordinates for Channel 259A at Sparkman are 33-55-00 North Latitude and 92-50-53 West Longitude.

The Commission, at the request of Charles Crawford, allots Channel 223A at Moberly, Missouri, as the community's sixth local aural transmission service. See 66 FR 50602 (October 4, 2001). Channel 223A can be allotted to Moberly in compliance with the Commission's minimum distance separation requirements with no site restrictions. The coordinates for Channel 223A at Moberly are 39-25-06 North Latitude and 92-26-17 West Longitude.

The Commission, at the request of Maurice Salsa, allots Channel 254A at Kiowa, Oklahoma, as the community's first local aural transmission service. See 66 FR 47433 (September 12, 2001). Channel 254A can be allotted to Kiowa in compliance with the Commission's minimum distance separation requirements with a site restriction of 7.1 kilometers (4.4 miles) west of Kiowa. The coordinates for Channel 254A at Kiowa are 34-42-23 North Latitude and 95-58-48 West Longitude.

The Commission, at the request of Katherine Pyeatt in MM Docket No. 01-210, dismisses her petition for rule making requesting the allotment of Channel 293C3 at Crowell, Texas.

The Commission, at the request of Katherine Pyeatt, allots Channel 242A at Menard, Texas, as the community's second local aural transmission service. See 66 FR 47433 (September 12, 2001). Channel 242A can be allotted to Menard in compliance with the Commission's minimum distance separation requirements with a site restriction of 11.8 kilometers (7.3 miles) northwest of Menard. The coordinates for Channel 242A at Menard are 30-59-47 North Latitude and 99-52-06 West Longitude.

The Commission, at the request of Jeraldine Anderson, allots Channel 287C3 at Menard, Texas, as the community's third local aural transmission service. See 66 FR 54971 (October 31, 2001). Channel 287C3 can be allotted to Menard in compliance with the Commission's minimum distance separation requirements with a site restriction of 11.9 kilometers (7.4 miles) southwest of Menard. The coordinates for Channel 287C3 at Menard are 30-52-29 North Latitude and 99-54-00 West Longitude.

The Commission, at the request of Jeraldine Anderson, allots Channel 247A at San Isidro, Texas, as that community's first local aural transmission service. See 66 FR 54971 (October 31, 2001). Channel 247A can be allotted to San Isidro in compliance with the Commission's minimum distance separation requirements with a site restriction of 4.2 kilometers (2.6 miles) northeast of San Isidro. The coordinates for Channel 247A at San Isidro are 26-45-00 North Latitude and 98-26-00 West Longitude.

List of Subjects in 47 CFR Part 73

Radio, Radio broadcasting.

Part 73 of Title 47 of the Code of Federal Regulations is amended as follows:

PART 73—RADIO BROADCAST SERVICES

1. The authority citation for Part 73 continues to read as follows:

Authority: 47 U.S.C. 154, 303, 334 and 336.

§ 73.202 [Amended]

2. Section 73.202(b), the Table of FM Allotments under Arkansas, is amended by adding Sparkman, Channel 259A.

3. Section 73.202(b), the Table of FM Allotments under Missouri, is amended by adding Channel 223A at Moberly.

4. Section 73.202(b), the Table of FM Allotments under Oklahoma, is amended by adding Kiowa, Channel 254A.

5. Section 73.202(b), the Table of FM Allotments under Texas, is amended by adding Channels 242A and 287C3 at Menard, and San Isidro, Channel 247A.

Federal Communications Commission.
John A. Karousos,
Assistant Chief, Audio Division Media Bureau.

[FR Doc. 02-32290 Filed 12-23-02; 8:45 am]

BILLING CODE 6712-01-P